DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from February 23 to February 28, 2009.

For further information, please contact Edson Beall via: United States Postal Service mail, at the National Register of Historic Places, 2280, National Park Service, 1849 C St. NW., Washington, DC 20240; in person (by appointment), 1201 Eye St., NW., 8th floor, Washington DC 20005; by fax, 202-371-2229; by phone, 202-354-2255; or by e-mail, Edson_Beall@nps.gov.

Dated: April 9, 2009.
J. Paul Loether,
Chief, National Register of Historic Places/National Historic Landmarks Program.

Key

State, County, Property Name, Address/Boundary, City, Vicinity, Reference Number, Action, Date, Multiple Name.

DELAWARE

New Castle County

Carney, John, Agricultural Complex, 4300 Thompson Bridge Rd., Greenville Vicinity, 09000050, Listed, 2/25/09

DELAWARE

New Castle County

Rosemont, 15½ Cragmere Rd., Wilmington Vicinity, 09000051, Listed, 2/27/09

DELAWARE

Sussex County

Woman's Christian Temperance Union Fountain, Boardwalk at Rehoboth Ave., Rehoboth Beach, 09000052, Listed, 2/28/09

FLORIDA

Charlotte County

Babcock, Clarence L., House, 25537 Shore Dr., Punta Gorda, 09000053, Listed, 2/25/09

MASSACHUSETTS

Middlesex County

Coolidge School, 319 Arlington St., Watertown, 09000055, Listed, 2/25/09

NEW YORK

Suffolk County

Hopkins, Samuel, House, 415 Pipe Stave Hollow Rd., Miller Place, 09000057, Listed, 2/26/09

NEW YORK

Suffolk County

Shelter Island Country Club, 26 Sunnyside Ave., Shelter Island, 09000058, Listed, 2/25/09

OKLAHOMA

Kay County

Northside Elementary School, 720 W. Doolin Ave., Blackwell, 09000074, Listed, 2/23/09

OKLAHOMA

Kay County

Parkside Elementary School, 502 E. College, Blackwell, 09000075, Listed, 2/23/09

OKLAHOMA

Payne County

Reifsnyder, Josephine, Luston House, 2119 Sherwood, Stillwater, 09000078, Listed, 2/23/09 (Lustron Houses of Oklahoma)

OKLAHOMA

Payne County

Usher, Christian K., Luston House, 1135 E. Moses, Cushing, 09000079, Listed, 2/23/09 (Lustron Houses of Oklahoma)

OKLAHOMA

Washington County

House at 1554 SW. Rogers, Bartlesville, 09000080, Listed, 2/23/09 (Lustron Houses of Oklahoma)

OREGON

Benton County

Whiteside Theatre, 361 SW. Madison Ave., Corvallis, 09000060, Listed, 2/25/09

OREGON

Lane County

Boyer, Clarence and Ethel, House, 1138 E. 22nd Ave., Eugene, 09000061, Listed, 2/25/09

VIRGINIA

Franklin County

Piedmont Mill Historic District, 1709 Alean Rd., Boones Mill Vicinity, 09000063, Listed, 2/27/09

VIRGINIA

Henrico County

Druin-Horner House, 9904 River Rd., Richmond vicinity, 09000064, Listed, 2/25/09

VIRGINIA

Martinsville Independent City

Dry Bridge School, 1005 Jordan St., Martinsville, 09000065, Listed, 2/25/09 (Rosenwald Schools in Virginia MPS)

VIRGINIA

Petersburg Independent City

South Chappell Street Car Barn, 124 South Chappell St., Petersburg, 09000066, Listed, 2/25/09

[FR Doc. E9-8566 Filed 4-14-09; 8:45 am]

BILLING CODE